DEPARTMENT OF THE INTERIOR

National Park Service

[NPS-WASO-NAGPRA-NPS0038840; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK) has completed an inventory of human remains and associated funerary objects and has determined that there is a cultural affiliation between the human remains and associated funerary objects and Indian Tribes or Native Hawaiian organizations in this notice.

DATES: Repatriation of the human remains and associated funerary objects in this notice may occur on or after November 8, 2024.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, one individual have been identified. No associated funerary objects are present. On October 27, 1992, the remains were discovered by two children on the side of a road in Bradley County, TN. They notified the police, and on November 11, 1992, a detective from the Bradley County Sheriff's Department contacted William Bass at UTK for his assistance in examining the remains. The detective sent the remains to Bass at UTK, where they were received on November 20. After Bass verified that the remains were not of medicolegal concern (not a missing person or crime victim), and that they were Native American, the remains were retained by the UTK Forensic Anthropology Center (FAC) as case 92-30 where they remained until they were recently transferred to the UTK Office of Repatriation (OR). Some of the remains were “repaired” using an unknown glue, but to our knowledge, the remains were not treated with any potentially hazardous substances.

Human remains representing, at least, one individual have been identified. No associated funerary objects are present. On an unknown date, this individual was removed from an unknown rock shelter in Cumberland County, Tennessee. The shelter reportedly had a history of extensive looting by pothunters. On August 20, 1998, an investigator from the Cumberland County Sherriff's Office brought the individual to the UTK Forensic Anthropology Center (FAC) for examination. After FAC staff determined that the individual was Native American, and not of medicolegal concern, they were retained by the FAC as case 98-32. They remained at the FAC until they were recently transferred to the UTK Office of Repatriation (OR). To our knowledge, the remains were not treated with any potentially hazardous substances.

Human remains representing, at least, one individual have been identified. No associated funerary objects are present. On February 19, 1990, a landowner found the individual in a rock shelter in DeKalb County, TN, and reported them to the police. The following day, a Tennessee Bureau of Investigation (TBI) Special Agent contacted William Bass at the FAC for assistance in recovering and assessing any human remains present. Graduate students Murray Marks and Lee Meadows went to the rock shelter and removed the individual. After the individual was determined to be Native American and not of medicolegal concern, they were retained by the FAC as case 90-11. They remained at the FAC until they were recently transferred to the OR. Some of the remains were “repaired” using an unknown adhesive, but to our knowledge, the remains were not treated with any potentially hazardous substances.

Human remains representing, at least, one individual have been identified. No associated funerary objects are present. On an unknown date, the individual was found by a high school student in a cave in Grainger County, TN, and turned over to Knoxville police. On November 3, 1987, a Knoxville police officer brought the individual to Bass at the FAC for examination. Once they were determined to be Native American and not of medicolegal concern, this individual was retained by the FAC as case 87-15. They remained at the FAC until they were recently transferred to the OR. To our knowledge the remains were not treated with any potentially hazardous substances.

Human remains representing, at least, one individual have been identified. The one associated funerary object is one lot of lithics. The remains were found among a deceased person's belongings in Hamilton County, TN, on May 18, 2011, and were reported to the police. The Chattanooga Medical Examiner, Roger Wilkey, contacted the FAC for aid in determining if the remains were Native American. Wilkey transferred the remains to the FAC on June 1, 2011. Once the FAC examined the remains and verified that the remains were Native American, and not of medicolegal concern, they were retained by the FAC as case 11-11. They remained at the FAC until they were recently transferred to the OR. Some of the remains have been treated with a light layer of an unknown grayish preservative. The lithics were treated with an unknown adhesive, and some of the remains were “repaired” with an unknown adhesive, but to our knowledge, the remains and associated funerary objects were not treated with any potentially hazardous substances.

Human remains representing, at least, three individuals have been identified. The one associated funerary object is one lot of lithics. On March 18, 1996, a man contacted law enforcement after his children found human remains in Jefferson County, TN. A Jefferson County Sheriff's detective sergeant called Murray Marks at the FAC and subsequently transferred the remains for assessment. Once they were determined to be Native American and not of medicolegal concern, they were retained by the FAC as case 96-14. They remained at the FAC until they were recently transferred to the OR. A gray, paper-like substance adheres to some of the remains, but to our knowledge the remains and funerary objects were not treated with any potentially hazardous substances.

Human remains representing, at least, one individual have been identified. No associated funerary objects are present. On January 12, 2000, this individual was found in a plastic bag in Jefferson County, TN. The Dandridge, TN, 911 service contacted the FAC, and the individual was transferred to the FAC for analysis. Once the individual was determined to be Native American and not of medicolegal concern, they were retained by the FAC as case 00-1. They remained at the FAC until they were recently transferred to the OR. To our knowledge, the remains were not treated with any potentially hazardous substances.

Human remains representing, at least, one individual have been identified. No associated funerary objects are present. Around the 1980s, a man found this individual in or near a graveyard by Douglas Lake, in Jefferson County, TN. On January 7, 2011, the man transferred this individual to a dentist for examination. On January 17, 2011, the dentist transferred the individual to the Blount County Sheriff's Office. On January 19, 2011, an investigator from the Sheriff's Office brought the individual to the FAC where they were examined by Dr. Lee Meadows Jantz and graduate student Miriam Soto. After the examination, this individual was retained by the FAC as case 11-01. FAC staff recently determined this individual to be Native American. They remained at the FAC until they were recently transferred to the OR. To our knowledge, the remains were not treated with any potentially hazardous substances.

Human remains representing, at least, two individuals have been identified. No associated funerary objects are present. On April 24, 1995, an undergraduate student of Murray Marks (then a UTK professor) brought in these individuals, which she claimed had been found in an abandoned house in west Knox County, TN. Marks and Lee Meadows examined the remains and determined that they were Native American and not of medicolegal concern. The FAC retained these individuals as case 95-13. They remained at the FAC until they were recently transferred to the OR. Some of the remains were “repaired” using an unknown glue, but to our knowledge the remains were not treated with any potentially hazardous substances.

Human remains representing, at least, one individual have been identified. No associated funerary objects are present. On March 15, 1997, this individual was discovered in a shed in Knoxville, Knox County, TN. Knoxville police were notified, and they reached out to Bass for assistance. Bass took this individual to the FAC, and once his examination was complete, this individual was retained by the FAC as case 97-10. FAC staff recently determined that this individual was Native American, and not of medicolegal concern. The individual remained at the FAC until they were recently transferred to the OR. To our knowledge the remains were not treated with any potentially hazardous substances.

Human remains representing, at least, one individual have been identified. No associated funerary objects are present. At an unknown date, a resident of Loudon County, TN, reportedly purchased these remains at a flea market believing they were fake, but after more careful observation, realized that they were real and contacted law enforcement. A TBI special agent brought the individual to the FAC for examination on August 25, 2008. After Lee Meadows Jantz and Kevin Hufnagl examined the individual and determined that they were Native American and not of medicolegal concern, they were retained by the FAC as case 08-14. They remained at the FAC until they were recently transferred to the OR. To our knowledge the remains were not treated with any potentially hazardous substances.

Human remains representing, at least, six individuals have been identified. The one associated funerary object is one lot of burial soil. At an unknown date, these remains were removed by an unknown party from an unknown site. On January 27, 1981, they were left on the porch of the McMinn County, TN, Courthouse. The McMinn County Medical Examiner, William Foree, contacted Bass and had the remains transferred to UTK for examination on January 27. After Patrick Willey examined the remains and determined that they were Native American and not of medicolegal concern, they were retained as FAC case 81-3. The remains were recently transferred from the FAC to the OR. Some of the remains were “repaired” using an unknown glue, but to our knowledge, the remains and funerary object were not treated with any potentially hazardous substances.

Human remains representing, at least, two individuals have been identified. No associated funerary objects are present. On an unknown date, likely in spring 1981, these remains were left by an unknown party on the doorstep of the Tennessee Valley Authority office in Athens, McMinn County, TN. The remains were turned over to the Athens Police Department, who transferred them to Patrick Willey and Lorna Watkins at UTK for examination on June 15, 1981. After the remains were determined to be Native American, and not of medicolegal concern, they were retained as FAC case 81-15. The remains were recently transferred from the FAC to the OR. To our knowledge, the remains were not treated with any potentially hazardous substances.

Human remains representing, at least, two individuals have been identified. No associated funerary objects are present. These individuals were confiscated in the fall of 2002 by police during a raid of a home in Monroe County, TN. A deputy from the Monroe County Sheriff's Department transferred the individuals to the FAC for examination. Once Lee Meadows Jantz and Richard Jantz examined the individuals and determined they were Native American and not of medicolegal concern, they were retained by the FAC as case 02-43. They remained at the FAC until they were recently transferred to the OR. Some of the remains were “repaired” using an unknown adhesive and unknown glue, but to our knowledge the remains were not treated with any potentially hazardous substances.

Human remains representing, at least, two individuals have been identified. No associated funerary objects are present. On August 15, 1983, a woman contacted Bass about these individuals, which were found in a landfill in Morgan County, TN. At an unknown date, the individuals were transferred to the FAC, and they were retained by the FAC as case 83-19. Recently FAC staff determined that these individuals were Native American and not of medicolegal concern. They remained at the FAC until they were recently transferred to the OR. Some of these remains were “repaired” using an unknown glue, but to our knowledge the remains were not treated with any potentially hazardous substances.

Human remains representing, at least, two individuals have been identified. No associated funerary objects are present. On April 12, 1977, a man digging along the bank of the Tennessee River in Rhea County, TN, found these remains and reported them to law enforcement. On that same day, the District Attorney General of the 18th Judicial District and a Tennessee Bureau of Investigation Agent reached out to Bass and requested his help in identifying the remains. The remains were sent to Bass, who received them in mid-April. Bass examined the remains and determined they were Native American and not of medicolegal concern. The remains were retained as FAC case 77-1. The remains were treated with an unknown preservative and some of them were “repaired” with an unknown adhesive, but to our knowledge, the remains were not treated with any potentially hazardous substances.

Human remains representing, at least, one individual have been identified. The three associated funerary objects are one lot of faunal remains, one lot of lithics, and one lot of ceramics. At an unknown date, likely in July 1990, an unknown person found the burial eroding from the bank of a river in Rhea County, TN, and contacted law enforcement. An investigator from the Rhea County Sherriff's Department contacted Bass for assistance in assessing the burial on July 22, 1990. Bass sent two graduate students, Lee Meadows and Murray Marks, to visit the site with the investigator on July 24, 1990. By the time they arrived, people had begun to loot the site. Meadows and Marks removed the remains and took them back to the FAC for examination. They determined that the remains were Native American, and not of medicolegal concern. Based off the associated funerary objects, the FAC determined the remains dated to around 1200 CE. The remains were retained by the FAC as case 90-27. They remained at the FAC until they were recently transferred to the OR. To our knowledge, the remains and funerary objects were not treated with any potentially hazardous substances.

Human remains representing, at least, one individual have been identified. The one associated funerary object is one lot of faunal remains. On an unknown date, this individual was found along a river in Roane County, TN. On January 29, 1980, the Roane County Sheriff's Department requested Bass's help in identifying the remains, and they were transferred to Bass that same day. Once Bass determined that they were Native American and not of medicolegal concern, they were retained by the FAC as case 80-3. They remained at the FAC until they were recently transferred to the OR. Some of the remains may have been treated with an unknown preservative, but to our knowledge the remains and funerary objects were not treated with any potentially hazardous substances.

Human remains representing, at least, one individual have been identified. No associated funerary objects are present. On March 3, 1993, a sergeant from the Oak Ridge, TN, Police Department brought this individual to Bass for examination. It is unclear whether this individual came from the Anderson County side or the Roane County side of Oak Ridge. After Bass determined the individual was Native American and not of medicolegal concern, they were retained by the FAC as case 93-12. They remained at the FAC until they were recently transferred to the OR. Some of the remains were “repaired” using an unknown glue, and the remains may have been treated with an unknown preservative, but to our knowledge the remains were not treated with any potentially hazardous substances.

Human remains representing, at least one individual have been identified. No associated funerary objects are present. In April 1986, a physician at the University of Tennessee Memorial Hospital received the remains from a patient who had removed them from site 40SV28, in Sevier County, TN, on an unknown date. The physician transferred the remains to a radiologist at the hospital, who contacted Bass. Bass received the remains from the radiologist on April 16, 1986. On May 2, 1986, UTK professor Patrick Willey went to the cave with the patient to ascertain if the remains were of forensic interest and reportedly found burial(s) containing at least four individuals. These individuals were left in the cave. The remains previously removed from the cave were determined to be Native American and not of medicolegal concern and were retained by the FAC as case 86-9. They remained at the FAC until they were recently transferred to the OR. To our knowledge the remains were not treated with any potentially hazardous substances.

Human remains representing, at least two individuals have been identified. The one associated funerary object is one lot of faunal remains. On an unknown date, children found the remains in a cave in Sevier County, TN. On March 19, 1993, the Sevier County Sheriff's Office transferred the remains to the FAC for analysis. After Bass and Meadows determined the remains were Native American and not of medicolegal concern, they were retained by the FAC as case 93-14. They remained at the FAC until they were recently transferred to the OR. To our knowledge the remains and funerary objects were not treated with any potentially hazardous substances.

Human remains representing, at least two individuals have been identified. No associated funerary objects are present. On May 23, 1998, a fisherman found the remains on an island in Sevier County, TN, and alerted law enforcement. A detective from the Sevier County Sheriff's Office delivered the remains to the FAC later that same day. After Bass determined the remains were Native American and not of medicolegal concern, they were retained by the FAC as case 98-24. They remained at the FAC until they were recently transferred to the OR. To our knowledge the remains were not treated with any potentially hazardous substances.

Human remains representing, at least two individuals have been identified. The four associated funerary objects are one lot of rock, one lot of charcoal, and two lots of faunal remains. When and where these individuals were removed from is unknown, but they were potentially removed from an unknown site in Sevier County, TN in 1986. Two residents of Sevierville, TN sent the remains to the FAC, where they were received on September 16, 1998. After a graduate student examined the remains and determined they were Native American and not of medicolegal concern, they were retained by the FAC as case 98-36. They remained at the FAC until they were recently transferred to the OR. Some of the remains were “repaired” using an unknown glue, but to our knowledge the remains and funerary objects were not treated with any potentially hazardous substances.

Human remains representing, at least one individual have been identified. No associated funerary objects are present. On November 21, 1985, caretakers for a house in Rock Island, Warren County, TN, contacted police after finding the remains in the garage. The origin of these remains is unknown; they were reportedly left behind by previous short-term rental tenants. A Criminal Investigator for the Warren County Sheriff's Office sent the remains to UTK, where they were received on November 26, 1985. After a doctoral student determined the remains were Native American and not of medicolegal concern, they were retained by the FAC as case 85-33. They remained at the FAC until they were recently transferred to the OR. To our knowledge, the remains were not treated with any potentially hazardous substances.

Human remains representing, at least five individuals have been identified. The four associated funerary objects are one lot of lithics, one lot of ochre, one lot of ceramics, and one lot of faunal remains. In April 1998, children playing in a rock shelter in Warren County, TN, found some of the remains and took them to their parents. The parents contacted the police and a lieutenant from the Warren County Sheriff's Department called Bass for assistance in examining the remains. On April 16, Bass and two of his students met with staff from the Sheriff's Office, who showed them the remains the children had removed. Bass's group then went to the site where they identified extensive looting activities and removed additional remains exposed on the ground surface. All of the removed remains were transferred to the FAC for examination. Once Bass and the graduate students determined the remains were Native American and not of medicolegal concern, they were retained as case 98-19. They remained at the FAC until they were recently transferred to the OR. To our knowledge the remains and associated funerary objects were not treated with any potentially hazardous substances.

Cultural affiliation between these human remains and funerary objects, and the Indian Tribes listed in this notice was established via anthropological information, archaeological information, historical information, geographical information, and oral tradition. Bradley, Cumberland, DeKalb, Grainger, Hamilton, Jefferson, Knox, Loudon, McMinn, Monroe, Morgan, Rhea, Roane, Sevier, and Warren counties are part of the aboriginal lands of the Cherokee and the Muscogee (Creek).

Cultural Affiliation

Based on the information available and the results of consultation, cultural affiliation is reasonably identified by the geographical location or acquisition history of the human remains and associated funerary objects described in this notice.

Determinations

UTK has determined that:

• The human remains described in this notice represent the physical remains of 44 individuals of Native American ancestry.

• The 16 lots of objects described in this notice are reasonably believed to have been placed intentionally with or near individual human remains at the time of death or later as part of the death rite or ceremony.

• There is a connection between the human remains and associated funerary objects described in this notice and the Cherokee Nation; Eastern Band of Cherokee Indians; The Muscogee (Creek) Nation; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after November 8, 2024. If competing requests for repatriation are received, UTK must determine the most appropriate requestor prior to repatriation. Requests for joint repatriation of the human remains and associated funerary objects are considered a single request and not competing requests. UTK is responsible for sending a copy of this notice to the Indian Tribes and Native Hawaiian organizations identified in this notice.

Authority: Native American Graves Protection and Repatriation Act, 25 U.S.C. 3003, and the implementing regulations, 43 CFR 10.10.

Dated: September 30, 2024.
Melanie O'Brien,
Manager, National NAGPRA Program.

[FR Doc. 2024-23369 Filed 10-8-24; 8:45 am]

BILLING CODE 4312-52-P